DEPARTMENT OF COMMERCE

National Oceanic and Atmospheric Administration

[RTID 0648-XC357]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a public virtual meeting to address the items contained in the tentative agenda included in the SUPPLEMENTARY INFORMATION.

DATES: The public virtual meeting will be held on October 4, 2022, from 10 a.m. to 5 p.m., and October 5, 2022, from 10 a.m. to 5 p.m., Atlantic Standard Time (AST).

ADDRESSES: You may join the SSC 2-day public virtual meeting via Zoom by entering the following address: https://us02web.zoom.us/j/81086075177?pwd=TlBLb0NjWmZaR2h0b2NEbmpOTWtiQT09.

Meeting ID: 810 8607 5177.

Passcode: 546850.

One tap mobile

+19399450244,,87345855856#,,,,*793249# Puerto Rico

+17879451488,,87345855856#,,,,*793249# Puerto Rico

Dial by your location

+1 939 945 0244 Puerto Rico

+1 787 945 1488 Puerto Rico

+1 787 966 7727 Puerto Rico

+1 312 626 6799 US (Chicago)

+1 346 248 7799 US (Houston)

+1 646 558 8656 US (New York)

+1 669 900 9128 US (San Jose)

+1 253 215 8782 US (Tacoma)

+1 301 715 8592 US (Washington DC)

Meeting ID: 810 8607 5177.

Passcode: 546850.

Find your local number: https://us02web.zoom.us/u/kQvrOfR9i.

In case there are problems and we cannot reconnect via Zoom, the meeting will continue via GoToMeeting. You may join from a computer, tablet or smartphone by entering the following address: https://meet.goto.com/934508733.

You can also dial in using your phone.

United States: +1 (646) 749-3122.

Access Code: 934-508-733.

Join from a video-conferencing room or system.

Dial in or type: 67.217.95.2 or inroomlink.goto.com.

Meeting ID: 934 508 733.

Or dial directly: 934508733@67.217.95.2 or 67.217.95.2##934508733.

Get the app now and be ready when the first meeting starts: https://meet.goto.com/install.

FOR FURTHER INFORMATION CONTACT: Miguel Rolón, Executive Director, Caribbean Fishery Management Council, 270 Muñoz Rivera Avenue, Suite 401, San Juan, Puerto Rico 00918-1903, telephone: (787) 766-5926.

SUPPLEMENTARY INFORMATION: The following items included in the tentative agenda will be discussed:

October 4, 2022

10 a.m.-10:15 a.m.

—Call to Order

—Roll Call

—Approval of Verbatim Transcriptions

—Adoption of Agenda

10:15 a.m.-12:30 p.m.

—SEDAR 80 Queen Triggerfish Introductory Presentation—SEFSC

—Review SEDAR 80 Queen Triggerfish Assessments Term of References

—SEDAR 80 Queen Triggerfish Puerto Rico—SEFSC Presentation on sensitivity runs requested by the SSC

12:30 p.m.-1:30 p.m.

—Lunch

1:30 p.m.-3 p.m.

—SEDAR 80 Queen Triggerfish Puerto Rico—SEFSC Presentation on sensitivity runs requested by the SSC (continued)

—SSC Guidance (recommendations) for additional analysis including projections to finalize SEDAR 80 QT PR

3 p.m.-3:15 p.m.

—Break

3:15 p.m.-5 p.m.

—SSC Discussion on Standard Products to finalize SEDAR 80 Queen triggerfish assessments (Puerto Rico, St. Thomas-St. John, St. Croix)—SEFSC

—SSC Recommendations to CFMC

October 5, 2022

10 a.m.-11 a.m.

—SEDAR 57 Spiny Lobster Update Assessment Progress Report—SEFSC

—Review TORs SEDAR 84 yellowtail snapper (Puerto Rico and St. Thomas/St. John) and stoplight parrotfish (St. Croix)

—Appointments of SSC members

11 a.m.-12 p.m.

—SSC Recommendations to CFMC

—Island-Based Fishery Management Plan and Amendments Update—María López-Mercer, SERO/NOAA Fisheries

12 p.m.-1 p.m.

—Lunch

1 p.m.-3 p.m.

—National SSC (August 15-17, 2022) Update—Richard Appeldoorn, J.J. Cruz Motta

—Case Study 8: Multivariate approaches for EBFM implementation in the U.S. Caribbean

3 p.m.-3:15 p.m.

—Break

3:15 p.m.-5 p.m.

—Outreach and Education Advisory Panel Update—Alida Ortiz

—Other Business

—Adjourn

The order of business may be adjusted as necessary to accommodate the completion of agenda items. The meeting will begin on October 4, 2022, at 10 a.m., and will end on October 5, 2022, at 5 p.m. Other than the start time, interested parties should be aware that discussions may start earlier or later than indicated, at the discretion of the Chair. In addition, the meeting may be completed prior to the date established in this notice.

Special Accommodations

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: September 9, 2022.
Rey Israel Marquez,
Acting Deputy Director, Office of Sustainable Fisheries, National Marine Fisheries Service.

[FR Doc. 2022-19841 Filed 9-13-22; 8:45 am]

BILLING CODE 3510-22-P